DEPARTMENT OF LABOR

Employment and Training Administration

[TA-W-61,144]

Royal Home Fashions, a Subsidiary of Croscill Incorporated, Currently Known as Croscill Acquisition, LLC, Durham, NC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on April 5, 2007, applicable to workers of Royal Home Fashions, a subsidiary of Croscill Incorporated, Durham, North Carolina. The notice was published in the Federal Register on April 24, 2007 (72 FR 20370).

At the request of a company official, the Department reviewed the certification for workers of the subject firm. The workers are engaged in administrative activities related to the firm's production of house furnishings.

The company reports that in November 2008 Royal Home Fashions, a subsidiary of Croscill Incorporated, was sold to Croscill Acquisition, LLC.

Accordingly, the certification is being amended to include workers at Royal Home Fashions, a subsidiary of Croscill Incorporated, Durham, North Carolina, whose wages are reported under the Unemployment Insurance (UI) tax account for the successor firm, Croscill Acquisition, LLC.

The amended notice applicable to TA-W-61,144 is hereby issued as follows:

All workers of Royal Home Fashions, a subsidiary of Croscill Incorporated, currently known as Croscill Acquisition, LLC, Durham, North Carolina, who became totally or partially separated from employment on or after February 14, 2006, through April 5, 2009, are eligible to apply for adjustment assistance under Section 223 of the Trade Act of 1974, and are also eligible to apply for alternative trade adjustment assistance under Section 246 of the Trade Act of 1974.

Signed at Washington, DC this 24th day of December 2008.
Linda G. Poole,
Certifying Officer, Division of Trade Adjustment Assistance

.

[FR Doc. E8-31323 Filed 1-5-09; 8:45 am]

BILLING CODE 4510-FN-P